ENVIRONMENTAL PROTECTION AGENCY

[EPA-HQ-OPPT-2019-0501; FRL-10009-72]

Toxic Substances Control Act (TSCA) Science Advisory Committee on Chemicals (SACC); Notice of Rescheduled Public Meeting

AGENCY: Environmental Protection Agency (EPA).

ACTION: Notice.

SUMMARY: EPA is announcing the rescheduled meeting dates for the 4-day meeting of the Toxic Substances Control Act (TSCA) Science Advisory Committee on Chemicals (SACC) that had been previously scheduled for April to consider and review the draft Risk Evaluation for asbestos and associated documents. This will be a virtual public meeting of the TSCA SACC, with participation by phone and webcast only. As previously announced in April, the public is invited to comment on the draft risk evaluation for asbestos and related documents in advance of and during this peer review virtual meeting. The TSCA SACC will consider these comments during their discussions.

DATES:

Peer Review Virtual Meeting: The 4-day virtual meeting will be held from 10:00 a.m. to approximately 5:00 p.m. Eastern Time, June 8 to 10, 2020; and from 11:30 a.m. to approximately 5:00 p.m. Eastern Time on June 11, 2020 (as needed, updated times for each day may be provided in the meeting agenda that will be posted in the docket at http://www.regulations.gov and on the TSCA SACC website at http://www.epa.gov/tsca-peer-review).

Required Registration: You must register online to receive the webcast meeting link and audio teleconference information. You may register as a listen-only attendee at any time up to the end of the virtual meeting. To make oral comments during the peer review virtual public meeting, please register by noon on June 2, 2020, to be included on the meeting agenda.

Comments: Submit your written comments, using the detailed instructions provided in the Federal Register on April 3, 2020 (85 FR 18954; FRL-10006-93) and the ADDRESSES section of this document, on or before June 2, 2020.

Special accommodations: For information on access or services for individuals with disabilities, and to request accommodation of a disability, please contact the DFO listed under FOR FURTHER INFORMATION CONTACT at least 10 days prior to the meeting to give EPA as much time as possible to process your request.

ADDRESSES:

Peer Review Virtual Meeting: Please visit http://www.epa.gov/tsca-peer-review to register. You must register online to receive the webcast meeting link and audio teleconference information for participation.

Comments: Submit your comments, identified by docket identification (ID) number EPA-HQ-OPPT-2019-0501, using the instructions provided in in the Federal Register on April 3, 2020 (85 FR 18954; FRL-10006-93). Please use the Federal eRulemaking Portal: http://www.regulations.gov. Follow the online instructions for submitting comments. Do not submit electronically any information you consider to be Confidential Business Information (CBI) or other information whose disclosure is restricted by statute.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

Requests to present oral comments: Submit requests to present oral comments during the virtual meeting when registering. Please visit http://www.epa.gov/tsca-peer-review to register.

Requests for special accommodations: Submit requests for special accommodations to the Designated Federal Official (DFO) listed under FOR FURTHER INFORMATION CONTACT.

FOR FURTHER INFORMATION CONTACT: TSCS SACC: Dr. Diana Wong, DFO, Office of Science Coordination and Policy (7201M), Environmental Protection Agency, 1200 Pennsylvania Ave. NW, Washington, DC 20460-0001; telephone number: (202) 564-2049; email address: wong.diana-m@epa.gov.

Draft Risk Evaluation: Dr. Stan Barone, Office of Pollution Prevention and Toxics (7403M), Environmental Protection Agency, 1200 Pennsylvania Ave. NW, Washington, DC 20460-0001; telephone number: (202) 564-1169; email address: barone.stan@epa.gov.

SUPPLEMENTARY INFORMATION: The original meeting announcement appeared in the Federal Register on April 3, 2020 (85 FR 18954; FRL-10006-93). This document announces the new dates for the rescheduled peer review meeting and provides instructions for registering for this virtual meeting, please consult the April 3, 2020 document for details about the purpose of the meeting, as well as instructions for participating or providing comments.

As indicated previously, EPA's background documents, related supporting materials, and draft charge questions to the TSCA SACC are available on the TSCA SACC website and in the docket established for the specific chemical substance. In addition, EPA will provide additional background documents (e.g., TSCA SACC meeting agenda) as the materials become available. You may obtain electronic copies of these documents, and certain other related documents that might be available, in the docket at http://www.regulations.gov and the TSCA SACC website at http://www.epa.gov/tsca-peer-review.

After the public meeting, the TSCA SACC will prepare meeting minutes summarizing its recommendations to the EPA. The meeting minutes will be posted on the TSCA SACC website and in the relevant docket.

Authority: 15 U.S.C. 2625(o) et seq.; 5 U.S.C Appendix 2 et seq.

Dated: May 10, 2020.
Hayley Hughes,
Director, Office of Science Coordination and Policy.

[FR Doc. 2020-10484 Filed 5-14-20; 8:45 am]

BILLING CODE 6560-50-P